OFFICE OF PERSONNEL MANAGEMENT

Submission for OMB Review; Comment Request for a Revised Information Collection: OPM Form 1644

AGENCY: Office of Personnel Management.

ACTION: Notice.

SUMMARY: In accordance with the Paperwork Reduction Act of 1995 (Public Law 104-13, May 22, 1995), this notice announces that the Office of Personnel Management (OPM) has submitted to the Office of Management and Budget (OMB) a request for a revised information collection. OPM Form 1644, Child Care Tuition Assistance Program for Federal Employees, is used to verify that child care providers are licensed and/or regulated by State and/or local authorities. Therefore, agencies need to verify that child care providers to whom they make disbursements in the form of child care subsidies meet the statutory requirement.

Approximately 2000 OPM 1644 forms will be processed annually. The OPM Form 1644 takes approximately 10 minutes to complete by each provider. The annual estimated burden is 333.3 hours.

For copies of this proposal, contact Mary Beth Smith-Toomey on (202) 606-8358, FAX (202) 418-3251 or e-mail to mbtoomey@opm.gov. Please include a mailing address with your request.

DATES: Comments on this proposal should be received within 30 calendar days from the date of this publication.

ADDRESSES: Send or deliver comments to—

Francis T. Cavanaugh, Acting Manager, Work Life Group, Employee and Family Support Center, Division of Strategic Human Resources Policy, Office of Personnel Management, 1900 E. Street, NW., Room 7315, Washington, DC 20415;

and

Joseph F. Lackey, OPM Desk Officer, Office of Information & Regulatory Affairs, Office of Management and Budget, New Executive Office Building, NW., Room 10235, Washington, DC 20503.

U.S. Office of Personnel Management.
Kay Coles James,
Director.

[FR Doc. 04-26856 Filed 12-7-04; 8:45 am]

BILLING CODE 6325-39-P